DEPARTMENT OF THE INTERIOR

National Park Service

[NPS-NERO-GATE-23558; PPNEGATEB0, PPMVSCS1Z.Y00000]

Gateway National Recreation Area Fort Hancock 21st Century Advisory Committee; Postponement of Meeting

AGENCY: National Park Service, Interior.

ACTION: Notice.

SUMMARY: The June 2017 Gateway National Recreation Area Fort Hancock 21st Century Advisory Committee meeting has been postponed.

DATES: The meeting was scheduled for June 8, 2017, in Lincroft, New Jersey, and will be rescheduled at a later date. We will publish a future notice with new meeting date and location.

FOR FURTHER INFORMATION CONTACT: Daphne Yun, Acting Public Affairs Officer, Gateway National Recreation Area, Sandy Hook Unit, 210 New York Avenue, Staten Island, New York 10305, (718) 354-4602, email Daphne_Yun@nps.gov, or visit the park Web site: https://forthancock21.org/.

SUPPLEMENTARY INFORMATION: The Committee provides advice to the National Park Service on developing a plan for the reuse of more than 30 historic buildings that the NPS has determined are excess to its needs and eligible for lease under 54 U.S.C. 102102 or 54 U.S.C. 306121-306122, or under agreement through appropriate authorities.

Additional information is available in the meeting notice published on December 9, 2016 (81 FR 89147).

Authority: 54 U.S.C. 100906; 5 U.S.C. Appendix 1-16.

Alma Ripps,
Chief, Office of Policy.

[FR Doc. 2017-16097 Filed 7-31-17; 8:45 am]

BILLING CODE 4312-52-P